DEPARTMENT OF COMMERCE

Census Bureau

Agency Information Collection Activities; Submission to the Office of Management and Budget (OMB) for Review and Approval; Comment Request; American Community Survey Methods Panel Tests

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 17, 2017 (Vol. 82, No. 221, p. 54317-54320) during a 60-day comment period. This notice allows for an additional 30 days for public comments.

Agency: U.S. Census Bureau.

Title: American Community Survey Methods Panel Tests: Regional Office internet Letter Test and Initial Mailing Pressure Seal Test.

OMB Control Number: 0607-0936.

Form Number(s): ACS-1, ACS internet, ACS CAPI.

Type of Request: Regular submission. Request for a Nonsubstantive Change of a Currently Approved Collection.

Number of Respondents: 182,400.

Average Hours per Response: 40 minutes.

Burden Hours: No additional burden hours are requested under this submission.

Needs and Uses: The American Community Survey (ACS) collects detailed socioeconomic data from about 3.5 million housing units in the United States and 36,000 in Puerto Rico each year. The ACS also collects detailed socioeconomic data from about 195,000 residents living in group quarters. Residents of sampled housing units are invited to self-respond to the ACS through a series of up to five mailings, sent over a period of approximately six and a half weeks. The Census Bureau selects a subsample of the housing units that do not respond by internet, mail, or through the Telephone Questionnaire Assistance (TQA). This subsample of housing units is assigned to the Computer-Assisted Personal Interview (CAPI) nonresponse follow-up data collection mode. During CAPI, field representatives call or visit these subsampled addresses to attempt to complete an interview.

An ongoing data collection effort with an annual sample of this magnitude requires that the ACS continue research, testing, and evaluations aimed at reducing respondent burden, improving data quality, reducing data collection costs, and improving the ACS questionnaire content and related data collection materials. The ACS Methods Panel is a research program designed to address and respond to issues and survey needs. This request documents two Methods Panel tests: The Initial Mailing Pressure Seal Test and the Regional Office internet Letter Test.

The Initial Mailing Pressure Seal Test is designed to test the use of a pressure seal mailer in the first mailing sent to sampled housing units. The purpose of the test is to understand the effect on self-response of sending a pressure seal mailer instead of the initial mail package that is currently sent. Evidence from mailings sent in 2020 suggest that the pressure seal mailer may be more effective at soliciting an internet response than a mail package containing a letter, brochure, and instruction card. However, several confounding factors could have caused an increase in self-response other than the mail type. First, the 2020 Census was conducting the nonresponse follow-up operation and advertising about the importance of responding to the 2020 Census, which some respondents confuse with the ACS. Second, the initial mail package lets respondents know that if they are unable to complete the survey online, then we will send a paper questionnaire in a few weeks. This message was omitted from the pressure seal mailer. Because of the coronavirus pandemic, we were unable to mail paper ACS questionnaires to all nonresponding households. We theorize that telling respondents that they will have another opportunity to respond later delays response. Finally, the internet User ID in the initial mail package is included on the instruction card, not in the letter. In the pressure seal mailer, the User ID is included very clearly in a call-out box. We theorize that making the log-in instructions clear and easy to find increases internet response.

The proposed test will include four experimental treatments and a control: An initial mail package (control), a modified initial mail package, and three variations of the pressure seal mailer. Addresses not part of the test will receive the initial mail package. The experimental design of this test allows the Census Bureau to assess the impact of using a pressure seal mailer instead of an initial mail package and how information about a paper questionnaire being mailed impacts response rates.

To field this test, the Census Bureau plans to use the ACS production sample (clearance number: 0607-0810). Thus, there is no increase in burden from this test since each treatment will include the same number of mailings and result in the same burden estimate per interview (40 minutes). The Census Bureau proposes this test to be conducted in late spring or summer of 2021 (pending operational constraints) and adhere to the same data collection protocols as production ACS.

The ACS sample design randomly assigns housing units in each monthly sample panel to one of 24 groups of approximately 12,000 addresses each. Each group, called a methods panel group, is representative of the full monthly sample. Each monthly sample is a representative subsample of the entire annual sample and is representative of the sampling frame. The Census Bureau proposes to use two randomly selected methods panel groups for each treatment. Hence, each treatment will have a sample size of approximately 24,000 addresses. In total, approximately 96,000 addresses will be used for the four experimental treatments and 24,000 for the control. The remaining ACS sample will receive production materials.

The Census Bureau proposes to evaluate the experimental treatments by comparing self-response rates overall and by mode. For each comparison, a two-tailed t-test will be used to measure the impact on the evaluation measure in either direction with 80 percent power at the α = 0.1 level. The sample size will be able to detect differences of approximately 1.74 percentage points between the self-response return rates between two experimental treatments. To assess the costs of implementing any of the experimental treatments, we will also conduct a cost analysis.

The Regional Office internet Letter Test is designed to test content changes to a letter used to encourage online self-response during CAPI. This letter is sent as a pressure-seal mailer from the Census Bureau's National Processing Center to all mailable sampled addresses in the CAPI universe.

The changes to the pressure seal letter proposed for this test are (1) the message on the outside of the pressure seal mailer (options include either a “Past Due” message or “Required by Law”) and (2) whether to include information about TQA as a response option, or only mention the internet. The experimental design isolates each of the content factors being studied. There is one control, which uses production materials, and three experimental treatments.

To field this test, the Census Bureau plans to use the ACS production sample (clearance number: 0607-0810). There is no increase in burden from this test because each treatment will include the same number of mailings and result in the same burden estimate per interview (40 minutes). The Census Bureau proposes that this test be conducted in the summer of 2021 (pending operational constraints) and adhere to the same data collection protocols as production ACS.

The Census Bureau proposes to use six randomly selected methods panel groups for each treatment. Each treatment will have a sample size of approximately 15,600 addresses. In total, approximately 46,800 addresses will be used for the three experimental treatments and 15,600 for the control. All mailable CAPI cases are included in the experiment.

The Census Bureau proposes to evaluate the experimental treatments by comparing self-response rates during CAPI and overall CAPI response rates, as well as refusal rates and other interview outcomes. The TQA call volume will also be monitored. For each comparison, a two-tailed test will be used so that the Census Bureau can measure the impact on the evaluation measure in either direction with 80 percent power at the α = 0.1 level. The sample size will be able to detect differences of approximately 1.74 percentage points between the self-response return rates between two experimental treatments. A cost analysis will also be conducted.

Affected Public: Individuals or households.

Frequency: One-time tests as part of the monthly American Community Survey.

Respondent's Obligation: Mandatory.

Legal Authority: Title 13, United States Code, Sections 141, 193, and 221.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0936.

Sheleen Dumas,
Department PRA Clearance Officer, Office of the Chief Information Officer, Commerce Department.

[FR Doc. 2020-26824 Filed 12-4-20; 8:45 am]

BILLING CODE 3510-07-P